DEPARTMENT OF TRANSPORTATION

Federal Aviation Administration

14 CFR Part 39

[Docket No. FAA-2009-0663; Directorate Identifier 2007-SW-25-AD]

RIN 2120-AA64

Airworthiness Directives; Eurocopter France Model AS 332 C, L, L1, and L2; AS 350 B3; AS 355 F, F1, F2, and N; SA 365 N and N1; AS 365 N2 and N3; SA 366 G1; EC 130 B4; and EC 155B and B1 Helicopters

AGENCY: Federal Aviation Administration (FAA), DOT.

ACTION: Notice of proposed rulemaking (NPRM).

SUMMARY: We propose to adopt a new airworthiness directive (AD) for the specified model helicopters. This proposed AD results from mandatory continuing airworthiness information (MCAI) originated by the European Aviation Safety Agency (EASA), which is the Technical Agent for the Member States of the European Community. The MCAI states that the AD is issued following a manufacturing nonconformity found on one batch of the servo-control caps. With a defective servo-control, rotation of the distributor might not be stopped mechanically since only friction of inner seals holds the distributor sleeve in its position. The proposed AD actions are intended to address the unsafe condition created by a manufacturing nonconformity found on one batch of servo-control caps. If not corrected this condition could cause untimely movements of servo-controls, which are used on main and anti-torque rotors, and lead to the loss of control of the helicopter.

DATES: We must receive comments on this proposed AD by September 2, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (972) 641-3460, fax (972) 641-3527, or at http://www.eurocopter.com.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Uday Garadi, Aviation Safety Engineer, Regulations and Policy Group, FAA, Rotorcraft Directorate, Fort Worth, Texas 76137, telephone (817) 222-5123, fax (817) 222-5961.

SUPPLEMENTARY INFORMATION:

Comments Invited

We invite you to send any written relevant data, views, or arguments about this proposed AD. Send your comments to an address listed under the ADDRESSES section. Include “Docket No. FAA-2009-0663; Directorate Identifier 2007-SW-25-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The EASA, which is the technical agent for Member States of the European Community, has issued EASA AD No. 2007-0099, dated April 11, 2007 (referred to after this as “the MCAI”), to correct an unsafe condition for Eurocopter France Model AS 332 C, L, L1, and L2; AS 350 B3; AS 355 F, F1, F2, and N; SA 365 N and N1; AS 365 N2 and N3; SA 366 G1; EC 130 B4; and EC 155 B and B1 helicopters. The MCAI states that the AD is issued following a manufacturing nonconformity found on one batch of the servo-control cap, part number 800137. With a defective servo-control, rotation of the distributor might not be stopped mechanically since only friction of inner seals holds the distributor sleeve in its position. If not corrected this condition could cause untimely movements of servo-controls, which are used on main and anti-torque rotors, and lead to the loss of control of the helicopter. You may obtain further information by examining the MCAI and service information in the AD docket.

Relevant Service Information

Eurocopter has issued Alert Service Bulletin (ASB) No. 67.00.37 for Model AS 332 helicopters, ASB No. 67.00.40 for Model AS 350 helicopters, ASB No. 67.00.28 for Model AS 355 helicopters, ASB No. 67.00.13 for Model AS 365 and SA 365 helicopters, ASB No. 67.08 for Model SA 366 helicopters, ASB No. 67A010 for Model EC 130 helicopters, and ASB No. 67A010 for Model EC 155 helicopters, all Revision 0 and all dated February 19, 2007. Two of the ASBs have identical numbers and dates. There is a separate ASB No. 67A010 with the same date for the Model EC130 helicopter and the Model EC 155 helicopter. The actions described in the MCAI are intended to correct the same unsafe condition as that identified in the service information.

FAA's Determination and Proposed Requirements

These helicopters have been approved by the aviation authority of another country, and are approved for operation in the United States. Pursuant to our bilateral agreement with the State of Design Authority, we have been notified of the unsafe condition described in the MCAI and service information. We are proposing this AD because we evaluated all pertinent information and determined an unsafe condition exists and is likely to exist or develop on other products of the same type designs.

Differences Between This AD and the MCAI

We have reviewed the MCAI and related service information and, in general, agree with their substance. However, our AD differs from the MCAI in that it:

• Is not applicable to the Model AS 332 C1 helicopters because they are not type certificated in the United States;

• Does not require returning the servo-controls to the manufacturer;

• Does not address servo-control “spares” (parts not installed on a helicopter);

• Uses the term “inspect” rather than “check”; and

• Includes information explaining that there are 2 ASBs with the same number and date—ASB No. 67A010 for the Model EC130 B4 helicopters and ASB No. 67A010 for the Model EC 155 B and B1 helicopters.

Costs of Compliance

We estimate that this proposed AD would affect about 318 helicopters with 33 non-conforming control cap assemblies of U.S. registry. Also, we estimate that it would take about 1 work-hour to inspect each helicopter in the fleet and 4 work-hours per helicopter to remove and replace an unairworthy servo-control. The average labor rate is $80 per work-hour. A replacement cap assembly would cost $15,605. Based on these figures, we estimate the cost of the proposed AD on U.S. operators to be $550,965, or $1,733 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2009-0663; Directorate Identifier 2007-SW-25-AD.

Comments Due Date

(a) We must receive comments by September 2, 2009.

Other Affected ADs

(b) None.

Applicability

(c) This AD applies to Eurocopter France (Eurocopter) Model AS 332 C, L, L1, and L2; AS 350 B3; AS 355 F, F1, F2, and N; SA 365 N and N1; AS 365 N2 and N3; SA 366 G1; EC 130 B4; and EC 155 B and B1 helicopters, certificated in any category.

Reason

(d) The mandatory continuing airworthiness information (MCAI) states that the AD is issued following a manufacturing nonconformity found on one batch of the servo-control cap, part number (P/N) 800137. With a defective servo-control, rotation of the distributor might not be stopped mechanically since only friction of inner seals holds the distributor sleeve in its position. If not corrected this condition could cause untimely movements of servo-controls, which are used on main and anti-torque rotors, and lead to the loss of control of the helicopter.

Actions and Compliance

(e) Within 2 months after the effective date of this AD, unless already done, do the following actions.

(1) For each servo-control with a P/N and a serial number (S/N) listed in paragraph 1.A.1. of the applicable Eurocopter Alert Service Bulletin (ASB) stated in Table 1 of this AD, determine whether there is a letter “R” marked in the inspection box of the servo-control identification plate.

(2) If there is no letter “R” marked in the inspection box of a servo-control identification plate, on the next removal of the servo-control, or not later than 2 years after the effective date of this AD, whichever occurs first, replace the servo-control with an airworthy servo-control that has an “R” marked in the inspection box of the servo-control identification plate or one with a serial number not listed in paragraph 1.A.1 of the ASB applicable to your model helicopter.

Note 1: The letter “R” marked in the inspection box of the servo-control identification plate indicates that the servo-control cap assembly has been brought into conformity with design data and has been installed properly.

(3) There are 2 identically numbered and dated ASBs. There is an ASB No. 67A010, dated February 19, 2007, that applies to the Model EC130B4 helicopters and an ASB No. 67A010, dated February 19, 2007, that applies to the Model EC 155B and B1 helicopters. You must use the ASB that applies to your model helicopter.

Table 1
For helicopter model | Refer to paragraph 1.A.1 of ASB
AS 332 C, L, L1, and L2 | No. 67.00.37, dated February 19, 2007.
AS 350 B3 | No. 67.00.40, dated February 19, 2007.
AS 355 F, F1, F2, and N | No. 67.00.28, dated February 19, 2007.
AS 365 N and N1 | No. 67.00.13, dated February 19, 2007.
SA 366 G1 | No. 67.08, dated February 19, 2007.
EC 130 B4 | No. 67A010, dated February 19, 2007.
EC 155B and B1 | No. 67A010, dated February 19, 2007.

Differences between the FAA AD and the MCAI AD

(f) This AD differs from the MCAI AD in that it:

(1) Is not applicable to the Model AS 332 C1 helicopters because they are not type certificated in the United States;

(2) Does not require returning the servo-controls to the manufacturer;

(3) Does not address servo-control “spares” (parts not installed on a helicopter);

(4) Uses the term “inspect” rather than “check”; and

(5) Includes information explaining that there are 2 ASBs with the same number and date.

Other Information

(g) Alternative Methods of Compliance (AMOCs): The Manager, Safety Management Group, FAA, has the authority to approve AMOCs for this AD, if requested using the procedures found in 14 CFR 39.19. Send information to ATTN: Uday Garadi, Aviation Safety Engineer, Regulations and Policy Group, Rotorcraft Directorate, FAA, Fort Worth, Texas 76137, telephone (817) 222-5123, fax (817) 222-5961.

Related Information

(h) MCAI EASA Airworthiness Directive 2007-0099, dated April 11, 2007, contains related information.

Joint Aircraft System/Component (JASC) Code

(i) JASC Code 6700: Rotorcraft Flight Control.

Issued in Fort Worth, Texas, on July 14, 2009.
Judy I. Carl,
Acting Manager, Rotorcraft Directorate, Aircraft Certification Service.

[FR Doc. E9-18429 Filed 7-31-09; 8:45 am]

BILLING CODE 4910-13-P